INTERNATIONAL TRADE COMMISSION

[Investigations Nos. 701-TA-432 and 731-TA-1024-1028 (Preliminary)]

Prestressed Concrete Steel Wire Strand From Brazil, India, Korea, Mexico, and Thailand

Determinations

On the basis of the record ¹ developed in the subject investigations, the United States International Trade Commission (Commission) determines, pursuant to sections 703(a) and 733(a) of the Tariff Act of 1930 (19 U.S.C. 1671b(a) and 1673b(a))(the Act), that there is a reasonable indication that an industry in the United States is materially injured by reason of imports from India of prestressed concrete steel wire strand (“PC strand”) that are alleged to be subsidized by the Government of India and by reason of imports from Brazil, India, Korea, Mexico, and Thailand of PC strand that are alleged to be sold in the United States at less than fair value (LTFV). The subject merchandise is provided for in subheading 7312.10.30 of the Harmonized Tariff Schedule of the United States.

¹ The record is defined in sec. 207.2(f) of the Commission's Rules of Practice and Procedure (19 CFR 207.2(f)).

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) and 733(b) of the Act, or, if the preliminary determinations are negative, upon notice of affirmative final determinations in the investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On January 31, 2003, a petition was filed with the Commission and Commerce by American Spring Wire Corp., Bedford Heights, OH; Insteel Wire Products Co., Mt. Airy, NC; and Sumiden Wire Products Corp., Stockton, CA, alleging that an industry in the United States is materially injured and threatened with material injury by reason of subsidized imports of PC strand from India and by reason of LTFV imports of PC strand from Brazil, India, Korea, Mexico, and Thailand. Accordingly, effective January 31, 2003, the Commission instituted countervailing duty investigation No. 701-TA-432 and antidumping duty investigations Nos. 731-TA-1024-1028 (Preliminary).

Notice of the institution of the Commission's investigations and of a public conference to be held in connection therewith was given by posting copies of the notice in the Office of the Secretary, U.S. International Trade Commission, Washington, DC, and by publishing the notice in the Federal Register of February 7, 2003 (68 FR 6511). The conference was held in Washington, DC, on February 21, 2003, and all persons who requested the opportunity were permitted to appear in person or by counsel.

The Commission transmitted its determinations in these investigations to the Secretary of Commerce on March 17, 2003. The views of the Commission are contained in USITC Publication 3589 (March 2003), entitled Prestressed Concrete Steel Wire Strand from Brazil, India, Korea, Mexico, and Thailand: Investigations Nos. 701-TA-432 and 731-TA-1024-1028 (Preliminary).

Issued: March 17, 2003.
By order of the Commission.
Marilyn R. Abbott,
Secretary to the Commission.

[FR Doc. 03-6853 Filed 3-20-03; 8:45 am]

BILLING CODE 7020-02-P